DEPARTMENT OF TRANSPORTATION

Federal Highway Administration

Environmental Impact Statement: Albuquerque, NM

AGENCY: Federal Highway Administration (FHWA), USDOT.

ACTION: Notice of intent.

SUMMARY: The FHWA is issuing this notice to advise the public and other agencies that an environmental impact statement will be prepared for a proposed transportation project in Albuquerque, NM.

FOR FURTHER INFORMATION CONTACT: Nicholas Finch, District Engineer, Federal Highway Administration, New Mexico Division, 4001 Office Court Drive, Suite 801, Santa Fe, New Mexico 87507, Telephone (505) 820-2039; or, Paul Lindberg, Project Development Engineer, New Mexico Department of Transportation, 7500 Pan American Freeway NE., Albuquerque, New Mexico 87109, Telephone (505) 841-2737.

SUPPLEMENTARY INFORMATION: The FHWA, in cooperation with the New Mexico Department of Transportation (NMDOT), will prepare an environmental impact statement (EIS) for proposed improvements to the Interstate 25 (I-25) and Paseo del Norte Interchange in Albuquerque, New Mexico. The proposed improvements would involve the reconstruction of the interchange and the adjoining portions of I-25 from San Mateo Boulevard to Alameda Boulevard and Paseo del Norte from San Pedro Drive to 2nd Street. The proposed improvements include approximately 2 miles of I-25 and 2 miles of Paseo del Norte.

The proposed improvements are considered necessary to: Provide for existing and future traffic demand; reduce congestion; improve local circulation; and, improve regional mobility. Alternatives under consideration include: (1) Taking no action; (2) reconstructing the existing traffic interchange as a system interchange using an echelon configuration in the interchange core with two directional ramps; and, (3) reconstructing the existing traffic interchange as a system interchange using four directional ramps. Both build alternatives include the addition of a general purpose lane in each direction of travel on I-25, auxiliary lanes where needed on I-25, modifications to freeway entrance and exit ramps at San Mateo Boulevard, San Antonio Boulevard, and Alameda Boulevard, reconstruction of the existing at-grade intersection of Paseo del Norte and Jefferson Street as a grade separated intersection, and construction of a new 1.25 mile section of arterial roadway parallel to Paseo del Norte from I-25 to the AMAFCA Diversion Channel.

Letters describing the proposed action and requesting comments will be sent to appropriate Federal, State, and local agencies, and to private organizations and individuals who have previously expressed, or are known to have an interest, in the proposed action. A scoping meeting will be held with appropriate agencies in late February 2008. Agencies will be notified of the scoping meeting by letter.

Planning and preliminary design activities for the proposed improvements have been underway since 2006. During that time, four public meetings and approximately fifty meetings with individual business, property owners, and interested groups were held, including two public meetings held in December 2007. Because extensive public involvement and scoping have already been conducted, a specific schedule for additional public scoping meetings has not been set. Additional meetings with the public, individual property and business owners, and others will be conducted as needed and as new information is developed. A notice of intent to prepare an EIS will be published in local newspapers in February 2008. The local notice will describe the proposed action and the intent of FHWA and NMDOT to prepare an environmental impact statement. It will also request comments from the public on issues of interest and concern and on alternatives to be considered.

To ensure that the full range of issues related to the proposed action are addressed and all significant issues are identified, comments, suggestions, and questions are invited from all interested parties. Comments, questions, and suggestions about the proposed action and the EIS should be sent to the FHWA at the address provided above.

(Catalog of Federal Domestic Assistance Program Number 20.205, Highway Planning and Construction. The regulations implementing Executive Order 12372 regarding intergovernmental consultation on Federal programs and activities apply to this program.)

Issued on February 9, 2008.
J. Don Martinez,
Division Administrator, Federal Highway Administration, Santa Fe, New Mexico.

[FR Doc. E8-3195 Filed 2-20-08; 8:45 am]

BILLING CODE 4910-22-P